DEPARTMENT OF LABOR

Occupational Safety and Health Administration

Agency Information Collection Activities; Announcement of the Office of Management and Budget (OMB) Control Numbers Under the Paperwork Reduction Act

AGENCY: Occupational Safety and Health Administration (OSHA), Labor.

ACTION: Notice; announcement of OMB approval of information collection requirements.

SUMMARY: The Occupational Safety and Health Administration announces that OMB has extended its approval for a number of information collection requirements found in sections of 29 CFR parts 1910, 1915, and 1926. OSHA sought approval under the Paperwork Reduction Act of 1995 (PRA-95), and, as required by that Act, is announcing the approval numbers and expiration dates for those requirements.

DATES: This notice is effective March 23, 2010.

FOR FURTHER INFORMATION CONTACT: Todd Owen or Theda Kenney, Directorate of Standards and Guidance, Occupational Safety and Health Administration, U.S. Department of Labor, Room N-3609, 200 Constitution Avenue, NW., Washington, DC 20210, telephone: (202) 693-2222.

SUPPLEMENTARY INFORMATION: In a series of Federal Register notices, the Agency announced its requests to OMB to renew its current extensions of approvals for various information collection (paperwork) requirements in its safety and health standards for general industry, shipyard employment, and the construction industry, (i.e., 29 CFR parts 1910, 1915, and 1926). In these Federal Register announcements, the Agency provided 60-day comment periods for the public to respond to OSHA's burden-hour and cost estimates.

In accordance with PRA-95 (44 U.S.C. 3501-3520), OMB renewed its approval for these information collection requirements and assigned OMB control numbers to these requirements. The table below provides the following information for each of these OMB-approved requirements: The title of the collection; the date of the Federal Register notice; the Federal Register reference (date, volume, and leading page); OMB's control number; and the new expiration date.

Title | Date of Federal Register Publication, Federal Register Reference, and OSHA Docket No. | OMB control no. | Expiration date
1,3-Butadiene (29 CFR 1910.1051) | 03/20/2009, 74 FR 11974, Docket No. OSHA-2009-0004 | 1218-0170 | 10/31/2012
Chromium (VI) Standards for General Industry (29 CFR 1910.1026), Shipyard Employment (29 CFR 1915.1026), and Construction (29 CFR 1926.1126) | 06/22/2009, 74 FR 29517, Docket No. OSHA-2009-0015 | 1218-0252 | 01/31/2013
Lead in Construction Standard (29 CFR 1926.62) | 05/18/2009, 74 FR 23210, Docket No. OSHA-2009-0008 | 1218-0189 | 10/31/2012
Lead in General Industry (29 CFR 1910.1025) | 05/18/2009, 74 FR 23209, Docket No. OSHA-2009-0009 | 1218-0092 | 10/31/2012
Reports of Injuries to Employees Operating Mechanical Power Presses (29 CFR 1910.217(g)) | 03/26/2009, 74 FR 13266, Docket No. OSHA-2009-0006 | 1218-0070 | 08/31/2012
Temporary Labor Camps (29 CFR 1910.142) | 03/20/2009, 74 FR 11975, Docket No. OSHA-2009-0003 | 1218-0096 | 10/31/2012

In accordance with 5 CFR 1320.5(b), an agency cannot conduct, sponsor, or require a response to a collection of information unless the collection displays a valid OMB control number and the agency informs respondents that they are not required to respond to the collection of information unless it displays a currently valid OMB control number.

Authority and Signature

David Michaels, PhD, MPH, Assistant Secretary of Labor for Occupational Safety and Health, directed the preparation of this notice. The authority for this notice is the Paperwork Reduction Act of 1995 (44 U.S.C. 3506 et seq.) and Secretary of Labor's Order No. 5-2007 (72 FR 31159).

Signed at Washington, DC, this 15th day of March 2010.
David Michaels,
Assistant Secretary of Labor for Occupational Safety and Health.

[FR Doc. 2010-6398 Filed 3-22-10; 8:45 am]

BILLING CODE 4510-26-P